SOCIAL SECURITY ADMINISTRATION

[Docket No. SSA 2008-0010]

Privacy Act of 1974 as Amended; Computer Matching Program; (SSA/Office of Personnel Management (OPM) Match Numbers 1005, 1019, 1020, 1021)

AGENCY: Social Security Administration (SSA).

ACTION: Notice of the renewal of an existing computer matching program which is scheduled to expire on April 6, 2008.

SUMMARY: In accordance with the provisions of the Privacy Act, as amended, this notice announces the renewal of an existing computer matching program that SSA is currently conducting with OPM.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefax to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: February 20, 2008.
Mary Glenn-Croft,
Deputy Commissioner for Budget, Finance and Management.

Notice of Computer Matching Program, Social Security Administration (SSA) With the Office of Personnel Management (OPM)

A. Participating Agencies

SSA and OPM.

B. Purpose of the Matching Program

The purpose of this agreement is to establish the conditions, terms and safeguards under which OPM agrees to the disclosure of civil service benefit and payment data to SSA. The old-age, survivors, disability insurance (OASDI), supplemental security income (SSI), and special veterans' benefits (SVB) programs administered by SSA will use the match results under this agreement. The OASDI programs are social insurance programs. The SSI program pays benefits to aged, blind and disabled recipients with incomes below levels established by law and regulations. The SVB program provides special benefits to certain World War II veterans. The results of the matching operations are used to determine SSI eligibility and to determine beneficiaries whose benefits should be reduced due to the Public Disability Benefit offset provision, the Windfall Elimination Provision, and the Government Pension Offset provision.

C. Authority for Conducting the Matching Program

The legal authority for SSA to conduct this matching activity for SSI purposes is contained in section 1631(e)(1)(B) and (f) of the Social Security Act (42 U.S.C. 1383(e)(1)(B) and (f)) and for the SVB program as authorized by section 806 of the Social Security Act (42 U.S.C. 1006). Section 224 of the Social Security Act, 42 U.S.C. 424a, provides for the reduction of Social Security disability benefits when the disabled worker is also entitled to a Public Disability Benefit. Sections 215(a)(7) and 215(d)(3) of the Social Security Act (42 U.S.C. 415(a)(7) and 415(d)(3)) provide for a modified benefit computation to be used for certain beneficiaries who are concurrently entitled to both Social Security benefits and a monthly periodic payment based in whole or in part on employment not covered by Social Security, including a civil service benefit. This modified benefit computation is called the Windfall Elimination Provision. Section 202(k)(5)(A) of the Social Security Act (42 U.S.C. 402(k)(5)(A)) requires that SSA reduce the Social Security benefits of certain beneficiaries entitled to Social Security spouse's benefits who are also entitled to a government pension based on their own noncovered earnings. This reduction is referred to as Government Pension Offset.

D. Categories of Records and Individuals Covered by the Matching Program

Monthly, OPM will provide SSA with an electronic file containing civil service benefit and payment data from the annuity and survivor master file. The Federal Register designation for the OPM file is OPM/Central-1 Civil Service Retirement and Insurance Records. Pursuant to 5 U.S.C. 552a(b)(3), OPM has established routine uses to disclose the subject information to SSA.

Each record on the OPM file will be matched for Social Security Number (SSN) verification to SSA's Master Files of SSN Holders and SSN Applications. The Federal Register designation for the SSA file is Master Files of SSN Holders and SSN Applications, SSA/OSR, 60-0058. Those records verified will then be matched to SSA's SSI and SVB payment information maintained in the SSR and SVB. The Federal Register designation for the SSA file is SSR and SVB, SSA/OSR, 60-0103.

The file will also contain information about each new disability annuitant and annuitants whose disability benefits have changed from previous reports. The Federal Register designation for the OPM file is also OPM/Central-1 Civil Service Retirement and Insurance Records. Pursuant to 5 U.S.C. 552a(b)(3), OPM has established routine uses to disclose the subject information to SSA.

Each record on the OPM file will be matched for Social Security Number (SSN) verification to SSA's Master Files of SSN Holders and SSN Applications. The Federal Register designation for the SSA file is Master Files of SSN Holders and SSN Applications, SSA/OSR, 60-0058. Those records verified will then be matched to DI records on the MBR to identify DI beneficiaries who may be subject to PDB offset. Those records verified will also be matched to SSA's MBR for WEP and GPO purposes. The Federal Register designation for the SSA file is MBR, SSA/OSR, 60-0090.

This monthly file contains approximately 25,000 records. OPM will provide SSA with the entire master annuity file of approximately 2.7 million records once yearly for the month of the civil service cost-of-living allowance.

E. Inclusive Dates of the Matching Program

The matching program will become effective no sooner than 40 days after notice of the matching program is sent to Congress and the Office of Management and Budget, or 30 days after publication of this notice in the Federal Register, whichever date is later. The matching program will continue for 18 months from the effective date and may be extended for an additional 12 months thereafter, if certain conditions are met.

[FR Doc. E8-4202 Filed 3-4-08; 8:45 am]

BILLING CODE 4191-02-P